INTERNATIONAL TRADE COMMISSION

[Inv. No. 337-TA-612]

In the Matter of Certain Nitrile Rubber Gloves; Notice of Investigation

AGENCY: U.S. International Trade Commission.

ACTION: Institution of investigation pursuant to 19 U.S.C. 1337.

SUMMARY: Notice is hereby given that a complaint was filed with the U.S. International Trade Commission on July 19, 2007, under section 337 of the Tariff Act of 1930, as amended, 19 U.S.C. 1337, on behalf of Tillotson Corporation d/b/a Best Manufacturing Company of Menlo, Georgia. Tillotson filed a supplement to the complaint on August 8, 2007. The complaint, as supplemented, alleges violations of § 337 in the importation into the United States, the sale for importation, and the sale within the United States after importation of certain nitrile rubber gloves by reason of infringement of U.S. Patent No. Re. 35,616. The complaint further alleges that an industry in the United States exists as required by subsection (a)(2) of § 337.

The complainant requests that the Commission institute an investigation and, after the investigation, issue a permanent exclusion order and a permanent cease and desist order.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://www.usitc.gov/secretary/edis.htm.

FOR FURTHER INFORMATION CONTACT: Vu Q. Bui, Esq., Office of Unfair Import Investigations, U.S. International Trade Commission, telephone (202) 205-2582.

Authority: The authority for institution of this investigation is contained in section 337 of the Tariff Act of 1930, as amended, and in section 210.10 of the Commission's Rules of Practice and Procedure, 19 CFR 210.10 (2006).

Scope of Investigation: Having considered the complaint, the U.S. International Trade Commission, on August 15, 2007, ordered that—

(1) Pursuant to subsection (b) of section 337 of the Tariff Act of 1930, as amended, an investigation be instituted to determine whether there is a violation of subsection (a)(1)(B) of § 337 in the importation into the United States, the sale for importation, or the sale within the United States after importation of certain nitrile rubber gloves by reason of infringement of one or more of claims 1 and 17-19 of U.S. Patent No. Re. 35,616, and whether an industry in the United States exists as required by subsection (a)(2) of § 337;

(2) For the purpose of the investigation so instituted, the following are hereby named as parties upon which this notice of investigation shall be served:

(a) The complainant is—

Tillotson Corporation, d/b/a, Best Manufacturing Company, 579 Edison Street, Menlo, Georgia 30731.

(b) The respondents are the following entities alleged to be in violation of section 337, and are the parties upon which the complaint is to be served:

Cardinal Health, Inc., 7000 Cardinal Place, Dublin, Ohio 43017.

Cardinal Health 200, Inc., 1430 Waukegan Road (MP KB-1A), McGaw Park, Illinois 60085.

Cardinal Health Malaysia 211 Sdn. Bhd., Plot 87, Kampung Jawa 11900, Bayan Lepas, Malaysia.

Henry Schein, Inc., 135 Duryea Road, Melville, New York 11747.

HSI Gloves Inc., 135 Duryea Road, Melville, New York 11747.

Latexx Partners Berhad, Pt5054, Jalan Perusahaan 3, Kamunting, Industrial Estate, 34600 Kamunting, Perak, Darul Ridzuan, Malaysia.

Medtexx Partners Inc., 102 Engle St. FL2, Englewood, New Jersey 07631.

(c) The Commission investigative attorney, party to this investigation, is Vu Q. Bui, Esq., Office of Unfair Import Investigations, U.S. International Trade Commission, 500 E Street, SW., Suite 401, Washington, DC 20436; and

(3) For the investigation so instituted, the Honorable Charles E. Bullock is designated as the presiding administrative law judge.

(4) The Commission has determined to assign this investigation to Judge Bullock, who is the presiding administrative law judge in Certain Nitrile Gloves, Inv. No. 337-TA-608, in view of the overlapping subject matter in the two investigations. The presiding administrative law judge is authorized to consolidate Inv. No. 337-TA-608 and this investigation if he deems it appropriate.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of a limited exclusion order or cease and desist order or both directed against the respondents.

Issued: August 16, 2007.
By order of the Commission.
Marilyn R. Abbott,
Secretary.

[FR Doc. E7-16432 Filed 8-21-07; 8:45 am]

BILLING CODE 7020-02-P